DEPARTMENT OF ENERGY

Federal Energy Regulatory Commission

Combined Notice of Filings

Take notice that the Commission has received the following Natural Gas Pipeline Rate and Refund Report filings:

Filings in Existing Proceedings

Docket Numbers: RP23-77-001.

Applicants: ANR Pipeline Company.

Description: Tariff Amendment: Jackson Generation Amended NCNR Agmt No. 132120_2 to be effective 11/1/2022.

Filed Date: 11/4/22.

Accession Number: 20221104-5121.

Comment Date: 5 p.m. ET 11/16/22.

Any person desiring to protest in any the above proceedings must file in accordance with Rule 211 of the Commission's Regulations (18 CFR 385.211) on or before 5:00 p.m. Eastern time on the specified comment date.

Filings Instituting Proceedings

Docket Numbers: RP23-170-000.

Applicants: Wyoming Interstate Company, L.L.C.

Description: § 4(d) Rate Filing: Firm Daily Balancing Service Update to be effective 12/1/2022.

Filed Date: 11/4/22.

Accession Number: 20221104-5101.

Comment Date: 5 p.m. ET 11/16/22.

Docket Numbers: RP23-171-000.

Applicants: Columbia Gas Transmission, LLC.

Description: § 4(d) Rate Filing: Capacity Release Agreements—Vitol, Direct Energy and Constellation Energy to be effective 11/1/2022.

Filed Date: 11/4/22.

Accession Number: 20221104-5118.

Comment Date: 5 p.m. ET 11/16/22.

Docket Numbers: RP23-172-000.

Applicants: Nautilus Pipeline Company, L.L.C.

Description: § 4(d) Rate Filing: Negotiated Rates—Walter OG 630249 eff 11-7-22 to be effective 11/7/2022.

Filed Date: 11/7/22.

Accession Number: 20221107-5072.

Comment Date: 5 p.m. ET 11/21/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2022.
Debbie-Anne A. Reese,
Deputy Secretary.

[FR Doc. 2022-24697 Filed 11-10-22; 8:45 am]

BILLING CODE 6717-01-P